DEPARTMENT OF COMMERCE

International Trade Administration

[A-570-822]

Certain Helical Spring Lock Washers from the People's Republic of China: Extension of Time Limit for the Final Results of the 2007-2008 Antidumping Duty Administrative Review

AGENCY: Import Administration, International Trade Administration, Department of Commerce.

DATES: Effective Date: March 1, 2010.

FOR FURTHER INFORMATION CONTACT: Brandon Farlander or David Layton, AD/CVD Operations, Office 1, Import Administration, International Trade Administration, U.S. Department of Commerce, 14th Street and Constitution Avenue, NW, Washington, DC 20230; telephone (202) 482-0182 and (202) 482-0371, respectively.

SUPPLEMENTARY INFORMATION:

Background

On November 9, 2009, the Department of Commerce (“Department”) published the preliminary results of the administrative review of the antidumping duty order on certain helical spring lock washers (“lock washers”) from the People's Republic of China, covering the period October 1, 2007 through September 30, 2008. See Certain Helical Spring Lock Washers from the People's Republic of China: Preliminary Results of Antidumping Duty Administrative Review, 74 FR 57653 (November 9, 2009). The final results of this administrative review were originally due no later than March 9, 2010. As explained in the memorandum from the Deputy Assistant Secretary for Import Administration, the Department has exercised its discretion to toll deadlines for the duration of the closure of the Federal Government from February 5, through February 12, 2010. Thus, all deadlines in this segment of the proceeding have been extended by seven days. The revised deadline for the final results of this review is currently March 16, 2010. See Memorandum to the Record from Ronald Lorentzen, DAS for Import Administration, regarding “Tolling of Administrative Deadlines As a Result of the Government Closure During the Recent Snowstorm,” dated February 12, 2010.

Extension of Time Limit for Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

In the instant review, the Department requires additional time to address the issues raised by interested parties regarding surrogate values for factors of production and to analyze additional surrogate value information filed by both the petitioner and respondent. In their case briefs and rebuttal briefs both parties have raised concerns about the selection of a surrogate value for steel wire rod, the key input for the production of lock washers. In addition, parties have presented arguments backed up by the timely filed surrogate value information regarding the selection of surrogate values for chemical inputs and financial ratios that the Department needs additional time to consider. Thus, it is not practicable to complete this review by March 16, 2010, and the Department is, therefore, extending the time limit for completion of the final results by an additional 60 days, as permitted by section 751(a)(3)(A) of the Act. The final results are now due no later than May 17, 2010.¹

¹ May 15, 2010 is the actual 60-day extended deadline. As May 15 is a Saturday, the new final results deadline will be May 17, 2010, the first business day after that weekend.

We are issuing and publishing this notice in accordance with sections 751(a)(3)(A) and 777(i) of the Act.

Dated: February 22, 2010.
John M. Andersen,
Acting Deputy Assistant Secretary for Antidumping and Countervailing Duty Operations.

[FR Doc. 2010-4169 Filed 2-26-10; 8:45 am]

BILLING CODE 3510-DS-S